DEPARTMENT OF TRANSPORTATION

Office of the Secretary

[Notice of Order to Show Cause (Order 2005-7-15); Docket OST-05-20492]

Application of Executive Jet Management, Inc. for Commuter Authority

AGENCY: Department of Transportation.

SUMMARY: The Department of Transportation is directing all interested persons to show cause why it should not issue an order finding that Executive Jet Management, Inc. is fit, willing, and able under 49 U.S.C. 41738 to provide scheduled passenger service as a commuter air carrier and issue to it a Commuter Air Carrier Authorization

DATES: Persons wishing to file objections should do so no later than August 29, 2005.

ADDRESSES: Objections and answers to objections should be filed in Docket OST-05-20492 and addressed to the Department of Transportation Dockets (M-30, Room PL-401), U.S. Department of Transportation, 400 Seventh Street, SW., Washington, DC 20590, and should be served upon the parties listed in Attachment A to the order.

FOR FURTHER INFORMATION CONTACT: Mr. Trace Atkinson, Air Carrier Fitness Division (X-56, Room 6401), U.S. Department of Transportation, 400 Seventh Street, SW., Washington, DC 20590, (202) 366-3176.

Dated: July 15, 2005.
Karan K. Bhatia,
Assistant Secretary for Aviation and International Affairs.

[FR Doc. 05-14379 Filed 7-20-05; 8:45 am]

BILLING CODE 4910-62-P